DEPARTMENT OF ENERGY

Federal Energy Regulatory Commission

[Project No. 10896-025]

City of Danville, Virginia; Northbrook Virginia Hydro, LLC; Notice of Application for Partial Transfer of License and Soliciting Comments, Motions To Intervene, and Protests

On October 14, 2020, the City of Danville, Virginia (City) and Northbrook Virginia Hydro, LLC (Northbrook) filed jointly an application for partial transfer of license for the Pinnacles Hydroelectric Project No. 10896. The project is located on the Dan River, Patrick County, Virginia.

The applicants seek Commission approval to partially transfer the license for the Pinnacles Hydroelectric Project from the City as sole licensee to the City and Northbrook as co-licensees.

Applicants Contact: (For the City of Danville, Virginia) Mr. Ken Larking, City Manager, 427 Patton Street, Danville, Virginia 24541, Phone: (434) 799-5100, Email: klarking@danvilleva.gov, with a copy to: Mr. Jason Grey, Director, Danville Utilities, P.O. Box 3300, Danville, VA 24543, Email: greyjc@danvilleva.gov.

For Northbrook Virginia Hydro, LLC: Mr. Kyle Kroeger, Co-President, Northbrook Virginia Hydro, LLC, c/o North Sky Capital, 33 South 6th Street, Suite 4646, Minneapolis, MN 55402, Phone: (612) 435-7150, Email: kkroeger@northskycapital.com, with copy to Mr. John C. Ahlrichs, 14550 N. Frank Lloyd Wright Blvd., Suite 210, Scottsdale, AZ 85260, Phone: (480) 551-1221, Email: cahlrichs@nbenergy.com.

FERC Contact: Anumzziatta Purchiaroni, (202) 502-6191, Anumzziatta.purchiaroni@ferc.gov.

Deadline for filing comments, motions to intervene, and protests: 30 Days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via U.S. Postal Service must be addressed to, Kimberly D. Bose, Secretary, Federal Energy Regulatory Commission, 888 First Street NE, Room 1A, Washington, DC 20426. Submissions sent via any other carrier must be addressed to, Kimberly D. Bose, Secretary, Federal Energy Regulatory Commission, 12225 Wilkins Avenue, Rockville, Maryland 20852. The first page of any filing should include docket number P-10896-025. Comments emailed to Commission staff are not considered part of the Commission record.

In addition to publishing the full text of this notice in the Federal Register, the Commission provides all interested persons an opportunity to view and/or print the contents of this notice, as well as other documents in the proceeding (e.g., license application) via the internet through the Commission's Home Page (http://www.ferc.gov) using the eLibrary link. Enter the docket number excluding the last three digits in the docket number field to access the document (P-10896). At this time, the Commission has suspended access to the Commission's Public Reference Room due to the proclamation declaring a National Emergency concerning the Novel Coronavirus Disease (COVID-19) issued by the President on March 13, 2020. For assistance, contact FERC at FERCOnlineSupport@ferc.gov or call toll-free, (886) 208-3673 or (202) 502-8659 (TTY).

Dated: October 21, 2020.
Kimberly D. Bose,
Secretary.

[FR Doc. 2020-23728 Filed 10-26-20; 8:45 am]

BILLING CODE 6717-01-P